THE NATIONAL FOUNDATION FOR THE ARTS AND THE HUMANITIES

Institute of Museum and Library Services

Notice of Proposed Information Collection Requests: The Roles of Libraries and Museums as Enablers of Community Vitality and Co-Creators of Positive Community Change Program Evaluation

AGENCY: Institute of Museum and Library Services, National Foundation for the Arts and the Humanities.

ACTION: Notice, request for comments, collection of information.

SUMMARY: The Institute of Museum and Library Services (IMLS), as part of its continuing effort to reduce paperwork and respondent burden, conducts a pre-clearance consultation program to provide the general public and federal agencies with an opportunity to comment on proposed and/or continuing collections of information in accordance with the Paperwork Reduction Act. This pre-clearance consultation program helps to ensure that requested data can be provided in the desired format, reporting burden (time and financial resources) is minimized, collection instruments are clearly understood, and the impact of collection requirements on respondents can be properly assessed. By this notice, IMLS is soliciting comments concerning a proposed survey to collect information to build the capacity of a grantee cohort to successfully execute projects related to the “Roles of Libraries and Museums as Enablers of Community Vitality and Co-Creators of Positive Community Change” grant program and document processes related to community engagement, partnerships, and associated outcomes for the benefit of the museum and library fields.

A copy of the proposed information collection request can be obtained by contacting the individual listed below in the ADDRESSES section of this notice.

DATES: Written comments must be submitted to the office listed in the addressee section below on or before July 12, 2017.

IMLS is particularly interested in comments that help the agency to:

• Evaluate whether the proposed collection of information is necessary for the proper performance of the functions of the agency, including whether the information will have practical utility;

• Evaluate the accuracy of the agency's estimate of the burden of the proposed collection of information including the validity of the methodology and assumptions used;

• Enhance the quality, utility, and clarity of the information to be collected; and

• Minimize the burden of the collection of information on those who are to respond, including through the use of appropriate automated electronic, mechanical, or other technological collection techniques, or other forms of information technology, e.g., permitting electronic submissions of responses.

ADDRESSES: Send comments to: Sandra R. Webb, Senior Advisor, Grants and Initiatives, Office of the Director, Institute of Museum and Library Services, 955 L'Enfant Plaza North SW., Suite 4000, Washington, DC 20024-2135. Dr. Webb can be reached by Telephone: 202-653-4718, Fax: 202-653-4608, or by email at swebb@imls.gov, or by teletype (TTY/TDD) for persons with hearing difficulty at 202-653-4614.

FOR FURTHER INFORMATION CONTACT: Sandra R. Webb, Senior Advisor, Grants and Initiatives, Office of the Director, Institute of Museum and Library Services, 955 L'Enfant Plaza North SW., Suite 4000, Washington, DC 20024-2135. Dr. Webb can be reached by Telephone: 202-653-4718, Fax: 202-653-4608, or by email at swebb@imls.gov, or by teletype (TTY/TDD) for persons with hearing difficulty at 202/653-4614. Office hours are from 8:30 a.m. to 5 p.m., E.T., Monday through Friday, except Federal holidays.

SUPPLEMENTARY INFORMATION:

I. Background

The Institute of Museum and Library Services is the primary source of federal support for the Nation's 123,000 libraries and 35,000 museums. The Institute's mission is to inspire libraries and museums to advance innovation, learning and civic engagement. The Institute works at the national level and in coordination with state and local organizations to sustain heritage, culture, and knowledge; enhance learning and innovation; and support professional development. IMLS is responsible for identifying national needs for and trends in museum, library, and information services; measuring and reporting on the impact and effectiveness of museum, library and information services throughout the United States, including programs conducted with funds made available by IMLS; identifying, and disseminating information on, the best practices of such programs; and developing plans to improve museum, library and information services of the United States and strengthen national, State, local, regional, and international communications and cooperative networks (20 U.S.C. Chapter 72, 20 U.S.C. 9108).

II. Current Actions

The purpose of this collection is to build the capacity of the “The Roles of Libraries and Museums as Enablers of Community Vitality and Co-Creators of Positive Community Change Program” grantee cohort to successfully execute their projects while at the same time documenting community engagement and partnership processes, and identifying the outcomes of the projects' interventions. The Roles of Libraries and Museums as Enablers of Community Vitality and Co-Creators of Positive Community Change Program Evaluation is designed to identify the factors, resources, partnerships, and practices that together increase the capacity of libraries, archives, and museums to successfully serve the needs of their local communities. An evaluation of the 9-20 museum and library projects can produce frameworks and methodologies that the library and museum fields can use to more deeply collaborate with their communities.

The evaluation is intended to support the work of Community Catalyst grantee project teams and those in the museum and library fields who are interested in local community-based interventions and partnerships. Methods will include qualitative and quantitative data collection via a developmental evaluation approach. Data will be collected through activities such as online and/or paper and pencil surveys, phone interviews, in-person interviews, focus groups, video or photographs, and documentation of artifacts used by grantees in their work.

Agency: Institute of Museum and Library Services.

Title: The Roles of Libraries and Museums as Enablers of Community Vitality and Co-Creators of Positive Community Change Program Evaluation.

OMB Number: To Be Determined.

Frequency: One-time collection anticipated.

Affected Public: Libraries, agencies, institutions of higher education, museums, and other entities that advance the museum and library fields and that meet the eligibility criteria.

Number of Respondents: To be determined.

Estimated Average Burden per Response: To be determined.

Estimated Total Annual Burden: To be determined.

Total Annualized capital/startup costs: N/A.

Total Annual costs: To be determined.

Public Comments Invited: Comments submitted in response to this notice will be summarized and/or included in the request for OMB's clearance of this information collection.

Dated: June 12, 2017.
Kim Miller,
Grants Management Specialist, Office of Chief Information Officer.

[FR Doc. 2017-12402 Filed 6-14-17; 8:45 am]

BILLING CODE 7036-01-P